OFFICE OF THE UNITED STATES TRADE REPRESENTATIVE

Fiscal Year 2020 Allocation of Additional Tariff-Rate Quota Volume for Raw Cane Sugar

AGENCY: Office of the United States Trade Representative.

ACTION: Notice.

SUMMARY: The Office of the United States Trade Representative (USTR) is providing notice of the allocations of additional Fiscal Year (FY) 2020 in-quota quantities of the tariff-rate quota (TRQ) for imported raw cane sugar as announced by the Secretary of Agriculture on September 10, 2020.

DATES: This notice is applicable on September 23, 2020.

FOR FURTHER INFORMATION CONTACT: Erin Nicholson, Office of Agricultural Affairs, at (202) 395-9419 or Erin.H.Nicholson@ustr.eop.gov.

SUPPLEMENTARY INFORMATION: Pursuant to Additional U.S. Note 5 to Chapter 17 of the Harmonized Tariff Schedule of the United States (HTSUS), the United States maintains TRQs for imports of raw cane and refined sugar. Section 404(d)(3) of the Uruguay Round Agreements Act (19 U.S.C. 3601(d)(3)) authorizes the President to allocate the in-quota quantity of a TRQ for any agricultural product among supplying countries or customs areas. The President delegated this authority to the U.S. Trade Representative under Presidential Proclamation 6763 (60 FR 1007, January 4, 1995).

On September 10, 2020, the Secretary of Agriculture announced an additional in-quota quantity of the TRQ for raw cane sugar for the remainder of FY2020 (ending September 30, 2020) in the amount of 90,718 metric tons raw value (MTRV) (conversion factor: 1 metric ton raw value = 1.10231125 short tons raw value). See 85 FR 55812. This quantity is in addition to the minimum amount to which the United States is committed under the World Trade Organization (WTO) Uruguay Round Agreements (1,117,195 MTRV) and in addition to the increase of 317,515 MTRV raw sugar on April 3, 2020. The Department of Agriculture also has determined that it will permit all sugar entering the United States under the FY2020 raw cane sugar TRQ to enter U.S. Customs territory through October 31, 2020, a month later than the usual last entry date. Of this additional quantity, USTR is allocating 10,718 MTRV to Australia and 80,000 MTRV to Brazil.

The allocations of the raw cane sugar TRQ to countries that are net importers of sugar are conditioned on receipt of the appropriate verifications of origin, and certificates for quota eligibility must accompany imports from any country for which an allocation has been provided.

Gregory Doud,
Chief Agricultural Negotiator, Office of the United States Trade Representative.

[FR Doc. 2020-20874 Filed 9-21-20; 8:45 am]

BILLING CODE 3290-F0-P